DEPARTMENT OF HOMELAND SECURITY

Transportation Security Administration

49 CFR Chapter XII

Coast Guard

33 CFR Chapter I, 46 CFR Chapter I

[Docket Nos. TSA-2006-24191; USCG-2006-24196; USCG-2006-24371]

RIN 1652-AA41; 1625-AB02

Transportation Worker Identification Credential (TWIC) Implementation in the Maritime Sector; Hazardous Materials Endorsement for a Commercial Driver's License; Consolidation of Merchant Mariner Qualification Credentials

AGENCY: Transportation Security Administration, Coast Guard, DHS.

ACTION: Notice of meetings.

SUMMARY: This notice provides the times and locations of the public meetings which will be held by the Transportation Security Administration (TSA) and the Coast Guard (USCG) regarding the Notice of Proposed Rulemaking entitled “Transportation Worker Identification Credential (TWIC) Implementation in the Maritime Sector; Hazardous Materials Endorsement for a Commercial Driver's License” and the Notice of Proposed Rulemaking entitled “Consolidation of Merchant Mariner Qualification Credentials”, both of which were published in the Federal Register on May 22, 2006.

DATES: Public meetings will be held this year, on Wednesday, May 31, in Newark, NJ; Thursday, June 1, in Tampa, FL; Tuesday, June 6, in St. Louis, MO; and Wednesday, June 7 in Long Beach, CA.

ADDRESSES: The public meetings will be held at the following hotels: In Newark, NJ, at the Sheraton Newark Airport Hotel, 128 Frontage Road, Newark, NJ, 07114; in Tampa Bay, FL at the Grand Hyatt Tampa Bay Hotel, 2900 Bayport Drive, Tampa, FL, 33607; in St. Louis, MO at the Renaissance St. Louis Hotel Airport, 9801 Natural Bridge Road, St. Louis, MO, 63134; and in Long Beach, CA at the Renaissance Long Beach Hotel, 111 East Ocean Blvd, Long Beach, CA, 90802.

FOR FURTHER INFORMATION CONTACT: For questions concerning the public meetings, please contact LCDR Jonathan Maiorine, Commandant (G-PCP-2), United States Coast Guard, 2100 Second Street, SW., Washington, DC 20593; toll free telephone 1(877) 687-2243.

SUPPLEMENTARY INFORMATION: On May 22, 2006, the Notice of Proposed Rulemaking entitled “Transportation Worker Identification Credential (TWIC) Implementation in the Maritime Sector; Hazardous Materials Endorsement for a Commercial Driver's License” (the “TWIC proposed rule”) and the Notice of Proposed Rulemaking entitled “Consolidation of Merchant Mariner Qualification Credentials” (the “MMC proposed rule”) were published in the Federal Register (71 FR 29396 and 71 FR 29462, respectively). At the time of submission to the Office of the Federal Register for publication, only the dates and cities of the public meetings were known. Specific location information is now available and is provided in this notice. Additionally, a typographical error was made in the rulemaking documents with respect to the day of the week for the St. Louis and Long Beach public meetings which are corrected in this notice.

Interested individuals are encouraged to attend, provide comments and ask questions about the TWIC and MMC rules.

Agenda of Meetings

These meetings will be held to take comments regarding both the TWIC proposed rule (Docket Nos. TSA-2006-24191; USCG-2006-24196) and the MMC proposed rule (Docket No. USCG-2006-24371). We will receive comments organized by Code of Federal Regulation (CFR) Titles, in the anticipated order of 49 CFR, then 33 CFR, and finishing with 46 CFR.

The meetings are expected to run from 9 a.m. to 5 p.m. with the exception of Long Beach which is planned from 10 a.m. to 6 p.m. We may end the meetings early if there are no additional comments or questions.

Information on Services for Individuals With Disabilities

For information on facilities or services for individuals with disabilities or to request special assistance at the meetings, please contact the hotel where the meeting will be held, or the individual listed in the FOR FURTHER INFORMATION CONTACT section above.

Dated: May 22, 2006.
Howard L. Hime,
Acting Director of Standards, Assistant Commandant for Prevention, U.S. Coast Guard.
Dated: May 23, 2006.
Mardi Ruth Thompson,
Deputy Chief Counsel, Transportation Security Administration.

[FR Doc. 06-4900 Filed 5-23-06; 3:21 pm]

BILLING CODE 4910-15-P